DEPARTMENT OF COMMERCE

National Oceanic and Atmospheric Administration

RIN 0648-XD266

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: NOAA Fisheries has made a preliminary determination that an exempted fishing permit application contains all of the required information and warrants further consideration. This request was submitted by the Gulf of Maine Research Institute and would allow commercial fishing vessels to evaluate if whiting can be caught in commercially viable quantities with minimal bycatch in the Gulf of Maine Grate Raised Footrope Trawl Exemption Area using a small-mesh trawl that has a standard cookie sweep, prior to the start of the current season that begins July 1. The exempted fishing permit would exempt the vessels from the Northeast multispecies minimum mesh size and seasonal restrictions at 50 CFR 648.80(a)(3) and 648.80 (a)(16).

Regulations under the Magnuson-Stevens Fishery Conservation and Management Act require publication of this notification to provide interested parties the opportunity to comment on applications for proposed exempted fishing permits.

DATES: Comments must be received on or before June 9, 2014.

ADDRESSES: You may submit written comments by any of the following methods:

• Email: NMFS.GAR.EFP@noaa.gov. Include in the subject line “Comments on GMRI Whiting EFP.”

• Mail: John K. Bullard, Regional Administrator, NMFS, Greater Atlantic Regional Fisheries Office, 55 Great Republic Drive, Gloucester, MA 01930. Mark the outside of the envelope “Comments on GMRI Whiting EFP.”

• Fax: (978) 281-9135.

FOR FURTHER INFORMATION CONTACT: Jason Berthiaume, Fishery Management Specialist, 978-281-9177, Jason.Berthiaume@noaa.gov.

SUPPLEMENTARY INFORMATION: The Gulf of Maine Research Institute (GMRI) has submitted an application for an exempted fishing permit (EFP) to conduct commercial fishing activities that the regulations would otherwise restrict. The EFP would exempt three federally permitted commercial fishing vessels from the minimum mesh size requirements for the purpose of testing a small-mesh trawl fitted with an excluder grate for harvesting silver hake. The applicant states that there has been poor performance of the raised footrope trawl in this area due to the rocky habitat, and that removing the raised footrope could allow for increased catch rates while maintaining low bycatch rates. In addition, the applicant has requested authorization to test the trawl prior to the July 1-November 30 season in the Gulf of Maine Grate Raised Footrope Trawl Exemption Area.

The applicant would evaluate the performance of a small-mesh trawl that has a regulation compliant excluder grate and is fitted with a cookie sweep. The trawl would not have a raised footrope as required by the Gulf of Maine Grate Raised Footrope Trawl regulations. Participating vessels would complete up to 25 days of experimental fishing with five 1-hour tows per day with a target whiting catch of 5,000 lb (2,268 kg) per day. A research technician would accompany all trips under the EFP, and sort and weigh all catch by species. Catch rates would be calculated for target and bycatch species and compared with historical and current catch rates. If it is determined that whiting catch rates are commercially viable, with minimal bycatch rates, GMRI would work on developing and obtaining funding to conduct more robust research in the future.

Whiting catch would be landed and sold and all catch of stocks allocated to Northeast multispecies sectors will be deducted from the sector's annual catch entitlement for each stock. Discards would be identified, weighed, measured, and returned to the sea as quickly as possible. The participating vessels would be required to comply with all other applicable requirements and restrictions specified at 50 CFR part 648, unless specifically exempted in this EFP.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 20, 2014.
James P. Burgess,
Acting Director, Office of Sustainable Fisheries, National Marine Fisheries Service.

[FR Doc. 2014-12022 Filed 5-22-14; 8:45 am]

BILLING CODE 3510-22-P